NUCLEAR REGULATORY COMMISSION

[Docket No. 50-443-LA2; ASLBP No. 17-953-02-LA-BD01]

Atomic Safety and Licensing Board; In the Matter of Nextera Energy Seabrook, LLC (Seabrook Station, Unit One)

June 5, 2017.

Before Administrative Judges: Ronald M. Spritzer, Chairman, Nicholas G. Trikouros, Dr. Sekazi Mtingwa.

Order

(Scheduling Oral Argument and Providing Instructions)

Before the Board is the petition of the C-10 Research and Education Foundation, Inc. (C-10) challenging a license amendment request submitted by NextEra Energy Seabrook LLC (NextEra) for Seabrook Station, Unit 1, located in Seabrook, New Hampshire. Oral argument on standing and contention admissibility will be held on Thursday, June 29, 2017, beginning at 10:00 a.m. EDT. The Board anticipates that oral argument will last approximately three hours.

The argument will take place by online video conference. Citrix GoToMeeting will be used for the video component of oral argument and telephone access will be used for the audio component. The Board will conduct oral argument from the Atomic Safety and Licensing Board Panel's hearing room, located at the Nuclear Regulatory Commission's headquarters at 11555 Rockville Pike, Rockville, Maryland 20852. The designated representatives of C-10, NextEra, and the NRC Staff (collectively “participants”) will participate remotely. Members of the public may observe oral argument from the hearing room, but listen-only telephone access will also be made available.

Instructions

On or before Tuesday, June 27, 2017, each participant shall provide the names of its representatives by email to the Board and the service list. Only designated representatives will be permitted to present oral argument. Each counsel or other representative for each participant in this proceeding who has not already done so must file and serve a notice of appearance on or before Tuesday, June 27, 2017, containing all of the information required by 10 CFR 2.314(b). While each participant should designate one primary spokesperson for the argument, limited response will be permitted from other representatives with a notice of appearance on file to the extent necessary to answer the Board's questions. The Board's law clerk, Julie Reynolds-Engel, will contact the participants' designated representatives by email to provide the web address and telephone number required to participate in oral argument.

On Tuesday, June 27, 2017, beginning at 11:00 a.m. EDT, the Board's IT Specialist will conduct a 15- to 30-minute technology test of the online video conferencing system with the participants. Each participant will need (1) a telephone line, (2) a computer or tablet with an embedded or attached web camera, (3) an internet connection with at least 1 Mbps connection speed, and (4) a compatible web browser or iOS or Android application.¹ The Board's law clerk will contact the participants by email to provide the web address ² and telephone number required to participate in the technology test by Thursday, June 22.

¹ The participants should review the Citrix GoToMeeting frequently asked questions Web page (http://www.gotomeeting.com/meeting/online-meeting-support) for specific system requirements. For the purpose of this oral argument, there is no cost to the participants for using GoToMeeting.

² A participant's computer or tablet may require installation of a free plugin or free software from Citrix. Accessing the provided web address prior to the technology test will prompt a plugin or software download, if required.

The primary purpose of this oral argument is for the Board to ask questions and receive answers concerning standing and contention admissibility issues presented by the pleadings. C-10 shall have 30 minutes to present its arguments on all issues, and the NRC Staff and NextEra shall each have 20 minutes. C-10 may reserve up to 5 minutes of its allotted time for rebuttal. No other rebuttal will be permitted.

In general, the participants should not repeat arguments already presented in their written filings, but should focus on responding to the Board's questions. The argument is not an evidentiary hearing, and the participants therefore should not attempt to introduce evidence during the argument. The participants should advise the Board and the other participants no later than Tuesday, June 27, 2017, if they plan to refer to any type of visual aid during the argument. No material that is not already cited in the record before the Board should be used as a visual aid.

Although the designated representatives will participate remotely, the Board encourages all participants to conduct themselves as if present in-person and to participate from an office setting.

Public Attendance

The public is welcome to attend the argument at the Atomic Safety and Licensing Board Panel's hearing room. However, only the designated representatives will be permitted to participate in the argument. Neither signs nor any manner of demonstration will be permitted in the hearing room. Those people wishing to attend the oral argument in person should contact the Board's law clerk, Julie Reynolds-Engel, at 301-415-5680 or julie.reynolds-engel@nrc.gov no later than Tuesday, June 27, 2017, to provide their names for security purposes. All members of the public participating in person must present a valid photo ID and should arrive at least twenty minutes early so as to allow sufficient time to pass through security screening. Cell phones are not permitted in the hearing room.

Listen-Only Telephone Access

The Board's law clerk will contact the participants by email to provide the telephone number and pass code for listen-only access to oral argument. Members of the public who wish to listen to the conference may also contact the Board's law clerk, Julie Reynolds-Engel, at 301-415-5680 or julie.reynolds-engel@nrc.gov, for the necessary listen-only telephone access information by Tuesday, June 27, 2017.

Transcript Availability

After June 29, 2017, a transcript of the oral argument will be available for public inspection electronically on the NRC's Electronic Hearing Docket (EHD). EHD is accessible from the NRC Web site at https://adams.nrc.gov/ehd. For additional information regarding EHD, please see http://www.nrc.gov/about-nrc/regulatory/adjudicatory.html#ehd. Persons who do not have access to the internet or who encounter problems in accessing the documents located on the NRC's Web site may contact the NRC Public Document Room reference staff by email to pdr@nrc.gov or by telephone at (800) 397-4209 or (301) 415-4737. Reference staff are available Monday through Friday between 8:00 a.m. and 4:00 p.m. ET, except federal holidays. For additional information regarding the NRC Public Document Room please see http://www.nrc.gov/reading-rm/pdr.html.

It is so ordered.

For the Atomic Safety and Licensing Board, Rockville, Maryland.
Dated: June 5, 2017.
Ronald M. Spritzer,
Chairman, Administrative Judge.

[FR Doc. 2017-12357 Filed 6-15-17; 8:45 am]

BILLING CODE 7590-01-P